Title 3—

The President

Executive Order 14286 of April 28, 2025

Enforcing Commonsense Rules of the Road for America's Truck Drivers

By the authority vested in me as President by the Constitution and the laws of the United States of America, it is hereby ordered:

Section 1. Purpose. America's truck drivers are essential to the strength of our economy, the security of our Nation, and the livelihoods of the American people. Every day, truckers perform the demanding and dangerous work of transporting the Nation's goods to businesses, customers, and communities safely, reliably, and efficiently.

Proficiency in English, which I designated as our official national language in Executive Order 14224 of March 1, 2025 (Designating English as the Official Language of the United States), should be a non-negotiable safety requirement for professional drivers. They should be able to read and understand traffic signs, communicate with traffic safety, border patrol, agricultural checkpoints, and cargo weight-limit station officers. Drivers need to provide feedback to their employers and customers and receive related directions in English. This is common sense.

That is why Federal law requires that, to operate a commercial vehicle, a driver must “read and speak the English language sufficiently to converse with the general public, to understand highway traffic signs and signals in the English language, to respond to official inquiries, and to make entries on reports and records.” Yet this requirement has not been enforced in years, and America's roadways have become less safe.

My Administration will enforce the law to protect the safety of American truckers, drivers, passengers, and others, including by upholding the safety enforcement regulations that ensure that anyone behind the wheel of a commercial vehicle is properly qualified and proficient in our national language, English.

Sec. 2. Policy. It is the policy of my Administration to support America's truckers and safeguard our roadways by enforcing the commonsense English-language requirement for commercial motor vehicle drivers and removing needless regulatory burdens that undermine the working conditions of America's truck drivers. This order will help ensure a safe, secure, and efficient motor carrier industry.

Sec. 3. Upholding English Proficiency Requirements for Commercial Motor Vehicle Operators. (a) The Secretary of Transportation, acting through the Administrator of the Federal Motor Carrier Safety Administration (FMCSA), shall, within 60 days of the date of this order, rescind the guidance document titled, “English Language Proficiency Testing and Enforcement Policy MC-ECE-2016-006,” issued on June 15, 2016, and issue new guidance to FMCSA and enforcement personnel outlining revised inspection procedures necessary to ensure compliance with the requirements of 49 CFR 391.11(b)(2).

(b) In carrying out subsection (a) of this section, the Secretary of Transportation, through the Administrator of the FMCSA, shall take all necessary and appropriate actions, consistent with applicable law, to ensure that the out-of-service criteria are revised such that a violation of the English language proficiency requirement results in the driver being placed out-of-service, including by working with the relevant entities responsible for establishing the out-of-service criteria.

Sec. 4. Strengthening Commercial Driver's License Security for Safer Commercial Motor Vehicle Operations. The Secretary of Transportation, through the Administrator of the FMCSA, shall:

(a) review non-domiciled commercial driver's licenses (CDLs) issued by relevant State agencies to identify any unusual patterns or numbers or other irregularities with respect to non-domiciled CDL issuance; and

(b) evaluate and take appropriate actions to improve the effectiveness of current protocols for verifying the authenticity and validity of both domestic and international commercial driving credentials.

Sec. 5. Supporting America's Truck Drivers. Within 60 days of the date of this order, the Secretary of Transportation shall identify and begin carrying out additional administrative, regulatory, or enforcement actions to improve the working conditions of America's truck drivers.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The Department of Transportation shall provide funding for this order's publication in the Federal Register.

THE WHITE HOUSE,

April 28, 2025.

[FR Doc. 2025-07786

Filed 5-1-25; 8:45 am]

Billing code 4910-9X-P